DEPARTMENT OF THE INTERIOR

Bureau of Land Management

[NM-010-1430-ES; NMNM 45778-04]

Order Providing for Opening of Land; New Mexico

AGENCY: Bureau of Land Management, Interior.

ACTION: Notice.

SUMMARY: This order opens land to the public land laws generally, including the mining laws. The land has been and remains open to mineral leasing.

EFFECTIVE DATE: The land will be open to entry at 8 a.m. March 28, 2005.

FOR FURTHER INFORMATION CONTACT: Joe Jaramillo, BLM Albuquerque Field Office, 435 Montano Road, NE, Albuquerque, New Mexico 87107, 505-761-8779.

SUPPLEMENTARY INFORMATION: In 1990, Recreation and Public Purposes Patent 30-91-0004 issued to the Village of Milan for recreation purposes. The land was not being used for the purposes conveyed; therefore, the Village of Milan conveyed the following described land back to the United States.

New Mexico Principal Meridian

T. 11 N., R. 10 W.,

Sec. 6, lots 1 to 7, inclusive, S½NE¼, SE¼NW¼, NE¼SW¼, and NW¼SE¼.

Containing 465.28 acres in Cibola County.

At 8 a.m. March 28, 2005, the land will be opened to the operation of the public land laws generally, subject to valid existing rights, the provisions of existing withdrawals, other segregations of record, and the requirements of applicable law. All valid applications received at or prior to 8 a.m. on March 28, 2005, shall be considered as simultaneously filed at that time. Those received thereafter shall be considered in the order of filing.

At 8.a.m on March 28, 2005, the land will be opened to location and entry under the United States mining laws, subject to valid existing rights, the provisions of existing withdrawals, other segregations of record, and the requirements of applicable law. Appropriation of any of the land described in this order under the general mining laws prior to the date and time of restoration is unauthorized. Any such attempted appropriation, including attempted adverse possession under 30 U.S.C. 38 (1988), shall vest no rights against the United States. State law governs acts required to establish a location and to initiate a right of possession are governed by State law where not in conflict with Federal law. The Bureau of Land Management will not intervene in disputes between rival locators over possessor rights since Congress has provided for such determination in local courts.

Dated: May 25, 2004.
Edwin J. Singleton,
Field Manager.

Editorial note: This document was received at the Office of the Federal Register February 18, 2005.

[FR Doc. 05-3519 Filed 2-23-05; 8:45 am]

BILLING CODE 4310-FB-P